DEPARTMENT OF ENERGY

Federal Energy Regulatory Commission

[Docket Nos. PH06-24-000, et al.]

Utility Pipeline Limited, et al.; Electric Rate and Corporate Filings

March 16, 2006.

The following filings have been made with the Commission. The filings are listed in ascending order within each docket classification.

1. Utility Pipeline Limited

[Docket No. PH06-24-000]

Take notice that on March 10, 2006, Utility Pipeline Limited filed a Petition for Waiver of the Requirements of The Public Utility Holding Company Act of 2005, pursuant to 18 CFR 366.3(c) and 366.4(c) of the Commission's regulations on the basis that it is a single state holding company.

Comment Date: 5 p.m. eastern time on March 31, 2006.

2. Alliant Energy Generation, Inc.

[Docket No. PH06-25-000]

Take notice that on March 10, 2006, Alliant Energy Generation, Inc. filed a Notice of Exemption from the Requirements of The Public Utility Holding Company Act of 2005 pursuant to 18 CFR 366.3(b) and 366.4(b) of the Commission's regulations.

Comment Date: 5 p.m. eastern time on March 31, 2006.

3. NSTAR, Boston Edison Company

[Docket No. PH06-26-000]

Take notice that on March 10, 2006, NSTAR on behalf of itself and Boston Edison Company filed a Petition for Waiver of the Requirements of The Public Utility Holding Company Act of 2005, pursuant to 18 CFR 366.3(c) and 366.4(c) of the Commission's regulations on the basis that they are single state holding companies.

Comment Date: 5 p.m. eastern time on March 31, 2006.

4. Maine & Maritimes Corporation

[Docket No. PH06-27-000]

Take notice that on March 13, 2006, Maine & Maritimes Corporation filed a Petition for Waiver of the Requirements of The Public Utility Holding Company Act of 2005, pursuant to 18 CFR 366.3(c), and 366.4(c) of the Commission's regulations on the basis that it is a single state holding company and owns less than 100 MW of generation.

Comment Date: 5 p.m. eastern time on April 3, 2006.

5. Wisconsin Energy Corporation

[Docket No. PH06-28-000]

Take notice that on March 13, 2006, Wisconsin Energy Corporation filed a Petition for Waiver of the Requirements of The Public Utility Holding Company Act of 2005, pursuant to 18 CFR 366.3(c) and 366.4(c) of the Commission's regulations on the basis that it is a single state holding company.

Comment Date: 5 p.m. eastern time on April 3, 2006.

6. Wisconsin Electric Power Company

[Docket No. PH06-29-000]

Take notice that on March 13, 2006, Wisconsin Electric Power Company filed a Petition for Waiver of the Requirements of The Public Utility Holding Company Act of 2005, pursuant to 18 CFR 366.3(c) and 366.4(c) of the Commission's regulations on the basis that it is a single state holding company.

Comment Date: 5 p.m. eastern time on April 3, 2006.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-4232 Filed 3-23-06; 8:45 am]

BILLING CODE 6717-01-P